DEPARTMENT OF TRANSPORTATION

Federal Motor Carrier Safety Administration

49 CFR Part 375

[Docket No. FMCSA-97-2979]

RIN 2126-AA32

Transportation of Household Goods; Consumer Protection Regulations

AGENCY: Federal Motor Carrier Safety Administration.

ACTION: Interim final rule; technical amendments; delay of compliance date.

SUMMARY: The Federal Motor Carrier Safety Administration (FMCSA) makes further technical amendments to the interim final rule published on June 11, 2003, governing the interstate transportation of household goods (68 FR 35064). On March 5, 2004, we issued technical amendments to the interim final rule and its appendix, the consumer pamphlet Your Rights and Responsibilities When You Move (69 FR 10570). On March 16, 2004, the U.S. Department of Transportation (DOT) received from the American Moving and Storage Association a petition for reconsideration and stay of compliance date of the interim final rule and technical amendments. In response to the petitioner's concerns, we are adopting clarifying technical amendments to the interim final rule and establishing a new compliance date for the rule. However, we believe that certain amendments sought in the petition are not necessary, while others are substantive in nature and will be considered along with other potential substantive amendments in a future rulemaking proceeding. Therefore, the petition is granted in part and denied in part. Today's action is intended to ensure that the household goods regulations and consumer information are consistently accurate, clear, and unambiguous.

DATES: Effective Dates: The interim final rule (68 FR 35064) published on June 11, 2003, was effective September 9, 2003. The technical amendments published on March 5, 2004 (69 FR 10570) are effective April 5, 2004. Today's technical amendments are effective May 5, 2004.

Compliance Dates: The compliance date for the interim rule was delayed indefinitely at 68 FR 56208 (September 30, 2003). The technical amendments published on March 5, 2004, established a new compliance date (April 5, 2004) for the interim rule, as amended. The compliance date for the interim rule and the technical amendments published on March 5, 2004, is delayed until May 5, 2004. The compliance date for today's technical amendments is May 5, 2004.

FOR FURTHER INFORMATION CONTACT: Mr. James Keenan, Office of Commercial Enforcement, (202) 385-2400, Federal Motor Carrier Safety Administration, Suite 600, 400 Virginia Avenue, SW., Washington, DC 20024.

Docket: For access to the docket to read background documents or comments received, go to http://dms.dot.gov at any time or to Room PL-401 on the plaza level of the Nassif Building, 400 Seventh Street, SW., Washington, DC, between 9 a.m. and 5 p.m., Monday through Friday, except Federal Holidays.

Privacy Act: Anyone is able to search the electronic form of all comments received into any of DOT's dockets by the name of the individual submitting the comment (or signing the comment, if submitted on behalf of an association, business, labor union, etc.). You may review DOT's complete Privacy Act Statement in the Federal Register published on April 11, 2000 (65 FR 19477). This statement is also available at http://dms.dot.gov.

SUPPLEMENTARY INFORMATION:

Background

In the Motor Carrier Safety Improvement Act of 1999 (Pub. L. 106-159, December 9, 1999, 113 Stat. 1749), which established FMCSA as a separate agency within DOT, Congress authorized the agency to regulate motor carriers transporting household goods for individual shippers. Our regulations setting forth Federal requirements for motor carriers that provide interstate transportation of household goods are found in 49 CFR part 375. The regulations governing payment of transportation charges are in 49 CFR part 377.

In May 1998, the Federal Highway Administration published a notice of proposed rulemaking (NPRM) requesting comments on its proposal to update the household goods regulations (63 FR 27126, May 15, 1998). The Federal Highway Administration is the predecessor agency to FMCSA within DOT.

The public submitted more than 50 comments to the NPRM. FMCSA subsequently modified the substance of the proposal in light of concerns raised by some of the commenters, and published an interim final rule in June 2003 (68 FR 35064, Jun. 11, 2003). We published an interim final rule rather than a final rule to allow the Office of Management and Budget (OMB) additional time to complete its review of information collection requirements.

In order to publish the rule text in the October 1, 2003, edition of the Code of Federal Regulations (CFR), we established the interim final rule's effective date as September 9, 2003. However, compliance was not required until March 1, 2004. On August 25, 2003, we received two petitions for reconsideration of the interim final rule. The petitioners were (1) the American Moving and Storage Association (the Association) and (2) United Van Lines, LLC and Mayflower Transit, LLC (Unigroup). On the same date, the Association submitted a separate Petition for Stay of Effective Date.

On September 30, 2003, FMCSA delayed the compliance date for the rule indefinitely in order to consider fully the petitioners' concerns (68 FR 56208). In separate letters to the petitioners dated December 23, 2003, we conveyed our decision to make some of the requested changes through technical amendments to the interim final rule and to further consider others that are substantive in nature in a future rulemaking proceeding.

On March 5, 2004, FMCSA published technical amendments to the interim final rule (69 FR 10570, Mar. 5, 2004). Some of the amendments provided uniformity between the rule text and the appendix—the consumer pamphlet Your Rights and Responsibilities When You Move—while others clarified certain provisions, reflected current industry practice, or corrected typographical errors. In addition, certain technical amendments revised language that was contrary to the statutory intent of the ICC Termination Act of 1995 (ICCTA) (Public Law 104-88, 109 Stat. 803), as codified at 49 U.S.C. 14104 and 14708.

The March 5, 2004, notice of technical amendments stated our intent to consider certain substantive amendments requested by the petitioners in a future rulemaking. As these substantive amendments involve changes to prescribed operational practices of movers, and in some cases have a direct impact on consumers, the public should be given an opportunity to comment.

On March 16, 2004, we received from the Association a Petition for Reconsideration and Stay of the Interim Final Rule and Technical Amendments Compliance Date. In response to the petitioner's concerns, we have made clarifying technical amendments to the interim final rule, chiefly to its appendix, and established a new compliance date for the rule.

However, as discussed in more detail below, we are not adopting all of the Association's proposed changes. Therefore, its petition is granted in part and denied in part.

All except one of the technical amendments being adopted today appear in the consumer pamphlet Your Rights and Responsibilities When You Move (Appendix A to Part 375). Section 375.213 requires movers to furnish the information in this pamphlet to prospective customers. For movers with Internet access, printing copies of the amended consumer pamphlet need not be burdensome. The updated pamphlet is posted on FMCSA's Web site, at http://www.fmcsa.dot.gov/, where it can be downloaded and printed.

Purpose of the Household Goods Regulations

The amended interim final rule, including today's technical amendments, is intended to (1) increase the public's understanding of the regulations with which movers must comply, and (2) help individual shippers and the moving industry understand the roles and responsibilities of movers, brokers, and shippers, to prevent moving disputes. Individual shippers—substantial numbers of whom are either relocating for business reasons or retired—may use for-hire truck transportation services infrequently. Thus, these consumers may be poorly informed about the regulations with which movers must comply and have little understanding of how moving companies operate. The consumer pamphlet Your Rights and Responsibilities When You Move is intended to help individual shippers understand the regulations so that they can make informed decisions in selecting a mover and planning a satisfactory move.

Discussion of Today's Further Amendments to the Technical Amendments

Many of the technical amendments being adopted today conform the appendix with the text of the regulations to ensure the consumer information is consistently clear and explicit. The discussion below groups the technical amendments into three subject areas—service charges and extension of credit, billing periods, and movers' tariffs.

Service Charges and Extension of Credit

The Association pointed out a number of errors in the section of the consumer pamphlet entitled May My Mover Extend Credit to Me?, under subpart B of the appendix (Before Requesting Services from Any Mover). Several paragraphs of this section, as published in the June 11, 2003, interim final rule and unchanged in the technical amendments issued on March 5, 2004, misinformed consumers both about the standard credit period for household goods movers and about the rules on service charges. This language contradicts our regulations at § 375.807. We have amended this section of the consumer pamphlet to reflect the following requirements:

• The standard credit period for household goods movers is 7 days, not 15 days.

• Movers may not establish their own standard credit period of up to 30 calendar days.

• Movers may not establish service charges since their service charge amount is prescribed by § 375.807(c)(2).

• Movers may not establish additional service charges since these too are prescribed by § 375.807(c)(2).

• No instructions apply to the movers' computation of service charges.

• Movers are not required to furnish explicit advice to shippers about service charges.

Billing Period for Additional Services

Prior to the interim final rule published on June 11, 2003, our regulations provided for a standard 15-day freight bill presentation period for household goods collect-on-delivery (COD) shipments, except for shipments moving under non-binding estimates where the transportation charges exceeded 110 percent of the non-binding estimate. Under these circumstances, the mover was required to defer billing for the additional charges for 30 days after the delivery date (see former sections 375.3(d) and 377.215).

The interim final rule retained this exception to the 15-day rule in sections 375.407(d) and 375.801(b). It also added a second exception to the 15-day rule—in sections 375.403(a)(7) and (8) and 375.405(b)(9) and (10)—by requiring carriers to wait at least 30 days before billing shippers for additional services provided after the household goods are in transit. The Association objects to this requirement, and requests it be removed.

However, amending the 30-day requirement would be a substantive change to the regulations, requiring notice-and-comment rulemaking. We will consider revisions to the billing period in a future rulemaking proceeding. At that time, we also will consider changes to §§ 375.403(a)(8) and 375.405(b)(10), related to individual shipper requests for additional services after the household goods are in transit. In the Association's view, movers have a right to payment within the standard 15-day billing period when the shipper has requested such additional services. This issue deserves careful consideration, and we will ensure the public has an opportunity to comment on any proposed changes.

In addition to its objection to the interim final rule's establishment of a 30-day billing period for charges for additional services, the Association finds the consumer pamphlet language of Subpart D (Estimating Charges) inconsistent with that of Subpart H (Collection of Charges). While Subpart D informs consumers that additional services rendered cannot be billed prior to 30 days after the date of delivery, Subpart H, under the section If I Forced My Mover To Relinquish a Collect-on-Delivery Shipment * * *, cites a 15-day billing period for “all transportation charges.” We agree that this section of the consumer pamphlet should be clearer, and have amended it by deleting the word “all” and adding the sentence: “However, charges exceeding 110 percent of a non-binding estimate, and charges for additional services requested or found necessary after the shipment is in transit, will be presented no sooner than 30 days after the date of delivery.”

We made a related technical amendment to § 375.403(a)(8). The third sentence of that subparagraph now reads: “You must bill for the payment of the balance of any remaining charges for additional services no sooner than 30 days after the date of delivery.”

The Association believes that §§ 375.403(a)(7) and 375.405(b)(9) are in conflict with our regulation at § 375.407(c). We disagree, and believe that § 375.407(c) is clear as written. Under the regulations, movers must defer for 30 days billing for charges in excess of 110 percent of a non-binding estimate and charges for additional services provided after the shipment was in transit. Although the latter requirement was introduced in the June 11 interim final rule, the former has been in effect for more than 25 years. Section § 375.407(c) ends with the sentence “After this 30-day period, you may demand payment of the balance of any remaining charges, as explained in § 375.405.” The cross-reference to § 375.405 in this sentence makes it clear that “any remaining charges” for which movers must defer billing include not only charges in excess of 110 percent of a non-binding estimate but also charges for additional services provided after the goods are in transit. Therefore, we believe that § 375.407(c) does not require amendment.

With respect to the interim final rule's introduction of a requirement that carriers wait 30 days to bill individual shippers for additional services provided after the goods are in transit, we inadvertently failed to incorporate this requirement in section 375.801 as amended March 5, 2004. We amended section 375.801 because, as originally published, it applied only to binding estimates and did not accurately reflect industry practice (see 69 FR 10572, Mar. 5, 2004). In making this change, however, we inadvertently eliminated the reference to the 30-day exceptions that had previously appeared in sections 377.215 and 375.801(b). We did not intend to eliminate the exception to the 15-day rule codified in 375.403(a)(7) and (8), 375.405(b)(9) and (10), and 375.407(d). Notice-and-comment rulemaking would have been required in order to make such substantive changes. Therefore, section 375.801(b) has a limited reach and should be narrowly construed consistent with sections 375.403(a)(7) and (8), 375.405(b)(9) and (1) and 375.407(d).

Finally, we made two technical amendments to clarify the regulations regarding billing periods in the consumer pamphlet Your Rights and Responsibilities When You Move:

(1) At several points we added a clarifying parenthetical sentence: “(Bills for charges exceeding 110 percent of a non-binding estimate, and for additional services requested or found necessary after the shipment is in transit, will be presented no sooner than 30 days after the date of delivery.”). This was added in the section How Must My Mover Collect Charges? under subpart B and in three sections of subpart H (How Must My Mover Present Its Freight or Expense Bill to Me?; If I Forced My Mover To Relinquish a Collect-on-Delivery Shipment Before the Payment of ALL Charges, How Must My Mover Collect the Balance?; and What Actions May My Mover Take To Collect From Me the Charges Upon Its Freight Bill?).

(2) In the numbered subparagraph (7) of Binding Estimates (under the section How Must My Mover Estimate Charges Under the Regulations? of subpart D), we added to the second sentence the clarifying language “for these additional services no sooner than 30 days after delivery.” The new sentence reads: “Your mover must bill you for the balance of any remaining charges for these additional services no sooner than 30 days after the date of delivery.” The phrase “no sooner than 30 days after the date of delivery” also was added to the last sentence of this subparagraph.

Movers' Tariffs

The petitions for reconsideration FMCSA received from the Association and Unigroup on August 25, 2003, requested that we clarify references to movers' tariffs by prefacing “tariffs” with the adjectival phrase “applicable portions of.” In the technical amendments published March 5, 2004, we made the requested change (substituting “applicable sections” for “applicable portions”) in the section What Other Information Must My Mover Provide Me? under subpart B of the consumer pamphlet. However, as the Association noted in the petition we received on March 16, 2004, we failed to insert the requested language in the section Non-Binding Estimates (also under subpart B) of the pamphlet. We have amended the fifth sentence of the second paragraph of that section as follows: “That is why it is important to ask for copies of the applicable portions of the mover's tariffs before deciding on a mover.”

Rulemaking Analyses and Notices

Executive Order 12866 (Regulatory Planning and Review) and DOT Regulatory Policies and Procedures

We have determined these technical amendments do not meet the criteria for a “significant regulatory action” as specified in Executive Order 12866 and within the meaning of DOT regulatory policies and procedures (44 FR 11034, Feb. 26, 1979). This document was not reviewed by the Office of Management and Budget.

Regulatory Flexibility Act

The Regulatory Flexibility Act (RFA) (5 U.S.C. 601-612), as amended by the Small Business Regulatory Enforcement and Fairness Act (Public Law 104-121), requires Federal agencies to analyze the impact of rulemakings on small entities, unless the agency certifies that the rule will not have a significant economic impact on a substantial number of small entities.

As noted in the Regulatory Flexibility Act section of the interim final rule published on June 11, 2003, and of the technical amendments issued on March 5, 2004 (69 FR 10570), this rule does not impose a significant economic impact on a substantial number of small entities. The original rule issued by the former Interstate Commerce Commission imposed paperwork requirements (creating, duplicating, and storing records, and practicing inventory control for those records) that were estimated at 785 hours for each entity (moving company). The interim final rule published on June 11, 2003, increased this time-and-cost burden by 458 hours, to an estimated total of 1,243 burden hours per entity.

Today's further technical amendments do not increase the estimated burden hours for compliance with the household goods transportation regulations. The technical amendments respond to an industry petition, and are intended to ensure the interim final is consistently clear, unambiguous, and accurate. Most entities, including small entities, already follow the principles, practices, and procedures captured in these corrections to the technical amendments. Therefore, FMCSA certifies that these technical amendments will not have a significant impact on a substantial number of small entities.

Executive Order 13132 (Federalism)

The Federalism section in our interim final rule published on June 11, 2003, and of the technical amendments published on March 5, 2004 (69 FR 10570), noted that the rule has been analyzed in accordance with the principles and criteria contained in Executive Order 13132, dated August 4, 1999 (64 FR 43255, Aug. 10, 1999). State Attorneys General and other State and local officials submitted comments to the May 1998 NPRM (63 FR 27126, May 15, 1998). We considered these comments in developing the interim final rule, and placed the comments in the rulemaking docket.

FMCSA certifies that the rule published on June 11, 2003, has federalism implications because it directly impacts the distribution of power and responsibilities among the various levels of government. Federalism implications likewise attach to today's technical amendments.

We have submitted a federalism summary impact statement for the June 11, 2003, interim final rule to the Director of the Office of Management and Budget.

Unfunded Mandates Reform Act of 1995

The Unfunded Mandates Reform Act of 1995 (Pub. L. 104-4; 2 U.S.C. 1532) requires each agency to assess the effects of its regulatory actions on State, local, and tribal governments and the private sector. Any agency promulgating a final rule likely to result in a Federal mandate requiring expenditures by a State, local, or tribal government or by the private sector of $100 million or more in any one year must prepare a written statement incorporating various assessments, estimates, and descriptions that are delineated in the Act. FMCSA determined that the changes in the June 11, 2003, interim final rule will not have an impact of $100 million or more in any one year. No significant additional impact is associated with today's further technical amendments.

Paperwork Reduction Act

Under the Paperwork Reduction Act of 1995 (PRA) (44 U.S.C. 3501-3520), a Federal agency must obtain approval from OMB for each collection of information it conducts, sponsors, or requires through regulations. FMCSA sought approval of the information collection requirements in the “Transportation of Household Goods; Consumer Protection Regulations” interim final rule published on June 11, 2003. On June 19, 2003, OMB assigned control number 2126-0025 to this information collection, and the approval expires on June 30, 2006.

OMB approved 600,000 annual responses, 4,370,037 annual burden hours, and annual costs to respondents of $37,247,000. It also approved FMCSA form number MCSA-2P to be used as part of the information collection process. Today's technical amendments do not affect this information collection.

A detailed analysis of the burden hours can be found in the OMB Supporting Statement for this rule. The Supporting Statement and its attachments are in Docket No. FMCSA-97-2979.

National Environmental Policy Act

The agency has analyzed these technical amendments for the purpose of the National Environmental Policy Act of 1969 (NEPA) (42 U.S.C. 4321 et seq.). We have determined under our environmental procedures Order 5610.1, published March 1, 2004, that this action is categorically excluded (CE) under Appendix 2, paragraph 6.m. of the Order from further environmental documentation. This CE relates to regulations implementing procedures applicable to the operations of household goods carriers engaged in the transportation of household goods. In addition, the agency believes that the action includes no extraordinary circumstances that would have any effect on the quality of the environment. Thus, we believe the action does not require an environmental assessment or an environmental impact statement.

We have also analyzed this action under the Clean Air Act, as amended (CAA) section 176(c), (42 U.S.C. 7401 et seq.) and implementing regulations promulgated by the Environmental Protection Agency. We have preliminarily determined that approval of this action would be exempt from the CAA's General Conformity requirement since it is merely a technical amendment to an existing rule. See 40 CFR 93.153(c)(2). We believe that it will not result in any emissions increase, nor will it have any potential to result in emissions that are above the general conformity rule's de minimis emission threshold levels. Moreover, we believe it is reasonably foreseeable that the rule will not increase total commercial motor vehicle mileage, change the routing of commercial motor vehicles, change how commercial motor vehicles operate, or change the commercial motor vehicle fleet-mix of motor carriers.

Executive Order 12630 (Taking of Private Property)

This rule would not effect a taking of private property or otherwise have takings implications under Executive Order 12630, Governmental Actions and Interference with Constitutionally Protected Property Rights.

Executive Order 12372 (Intergovernmental Review)

Catalog of Federal Domestic Assistance Program Number 20.217, Motor Carrier Safety. The regulations implementing Executive Order 12372 regarding intergovernmental consultation on Federal programs and activities do not apply to this program.

Executive Order 13211 (Energy Supply, Distribution, or Use)

We have analyzed this action under Executive Order 13211, Actions Concerning Regulations That Significantly Affect Energy Supply, Distribution, or Use. This action is not a significant energy action within the meaning of section 4(b) of the Executive Order because as a procedural action it is not economically significant and will not have a significant adverse effect on the supply, distribution, or use of energy.

Executive Order 12988 (Civil Justice Reform)

This action meets applicable standards in sections 3(a) and 3(b)(2) of Executive Order 12988, Civil Justice Reform, to minimize litigation, eliminate ambiguity, and reduce burden.

List of Subjects in 49 CFR Part 375

Advertising, Arbitration, Consumer protection, Freight, Highways and roads, Insurance, Motor carriers, Moving of household goods, Reporting and recordkeeping requirements.

For the reasons set out in the preamble, FMCSA amends 49 CFR part 375 as set forth below:

PART 375—TRANSPORTATION OF HOUSEHOLD GOODS IN INTERSTATE COMMERCE; CONSUMER PROTECTION REGULATIONS

1. The authority citation for part 375 continues to read as follows:

Authority: 5 U.S.C. 553; 49 U.S.C. 13301, 13704, 13707, 14104, 14706; and 49 CFR 1.73.

2. Amend § 375.403 by revising paragraph (a)(8) to read as follows:

§ 375.403 How must I provide a binding estimate?

(a) * * *

(8) If the individual shipper requests additional services after the household goods are in transit, you must inform the individual shipper of the additional charges that will be billed. You must require full payment at destination of the original binding estimate only. You must bill for the payment of the balance of any remaining charges for additional services no sooner than 30 days after the date of delivery. For example, if your binding estimate to an individual shipper estimated total charges at delivery as $1,000, but your actual charges at destination are $1,500, you must deliver the shipment upon payment of $1,000. You must then issue freight or expense bills no sooner than 30 days after the date of delivery for the remaining $500.

* * * * *

3. Amend Appendix A as published on March 5, 2004, at 69 FR 10580 as follows:

a. Amend subpart B by revising the second paragraph of the section How Must My Mover Collect Charges?, and, in the section May My Mover Extend Credit to Me?, by revising the second paragraph, by removing the third paragraph and numbered subparagraphs (1) and (2), and by removing the numeral (3) preceding the final paragraph and republishing that paragraph.

b. Amend subpart D, under the section How Must My Mover Estimate Charges Under the Regulations?, by revising numbered subparagraph (7) of Binding Estimates, and revising the second paragraph and numbered subparagraph (10) of Non-Binding Estimates.

c. Amend subpart H by revising the 9th paragraph of the section How Must My Mover Present Its Freight or Expense Bill to Me?; by revising the section If I Forced My Mover To Relinquish a Collect-on-Delivery Shipment Before the Payment of ALL Charges, How Must My Mover Collect the Balance?; and by revising the first three paragraphs and the numbered subparagraph (1) of the section What Actions May My Mover Take To Collect From Me the Charges Upon Its Freight Bill?.

The revisions read as follows:

APPENDIX A TO PART 375—YOUR RIGHTS AND RESPONSIBILITIES WHEN YOU MOVE

Subpart B—Before Requesting Services From Any Mover

* * * * *

How Must My Mover Collect Charges?

* * * * *

Your mover must present its freight or expense bill to you within 15 days of the date of delivery of a shipment at its destination. The computation of time excludes Saturdays, Sundays, and Federal holidays. (Bills for charges exceeding 110 percent of a non-binding estimate, and for additional services requested or found necessary after the shipment is in transit, will be presented no sooner than 30 days after the date of delivery.) * * *

May My Mover Extend Credit to Me?

* * * * *

The credit period must begin on the day following presentation of your mover's freight bill to you. Under Federal regulation, the standard credit period is 7 days, excluding Saturdays, Sundays, and Federal holidays. Your mover must also extend the credit period to a total of 30 calendar days if the freight bill is not paid within the 7-day period. A service charge equal to one percent of the amount of the freight bill, subject to a $20 minimum, will be assessed for this extension and for each additional 30-day period the charges go unpaid.

* * * * *

Your failure to pay within the credit period will require your mover to determine whether you will comply with the Federal household goods transportation credit regulations in good faith in the future before extending credit again.

Subpart D—Estimating Charges

* * * * *

How Must My Mover Estimate Charges Under the Regulations?

Binding Estimates

* * * * *

(7) If you add additional services after your household goods are in transit, you will be billed for the additional services but only be expected to pay the full amount of the binding estimate to receive delivery. Your mover must bill you for the balance of any remaining charges for these additional services no sooner than 30 days after delivery. For example, if your binding estimate shows total charges at delivery should be $1,000 but your actual charges at destination are $1,500, your mover must deliver the shipment upon payment of $1,000. The mover must bill you for the remaining $500 no sooner than 30 days after the date of delivery.

* * * * *

Non-binding Estimates

* * * * *

A non-binding estimate is not a bid or contract. Your mover provides it to you to give you a general idea of the cost of the move, but it does not bind your mover to the estimated cost. You should expect the final cost to be more than the estimate. The actual cost will be in accordance with your mover's tariffs. Federal law requires your mover to collect the charges shown in its tariffs, regardless of what your mover writes in its non-binding estimates. That is why it is important to ask for copies of the applicable portions of the mover's tariffs before deciding on a mover. The charges contained in movers' tariffs are essentially the same for the same weight shipment moving the same distance. If you obtain different non-binding estimates from different movers, you must pay only the amount specified in your mover's tariff. Therefore, a non-binding estimate may have no effect on the amount that you will ultimately have to pay.

* * * * *

(10) If you add additional services after your household goods are in transit, you will be billed for the additional services. To receive delivery, however, you are required to pay no more than 110 percent of the non-binding estimate. At least 30 days after delivery, your mover must bill you for any remaining balance, including the additional services you requested. For example, if your non-binding estimate shows total charges at delivery should be $1,000 but your actual charges at destination are $1,500, your mover must deliver the shipment upon payment of $1,100. The mover must bill you for the remaining $400 no sooner than 30 days after the date of delivery.

* * * * *

Subpart H—Collection of Charges

* * * * *

How Must My Mover Present Its Freight or Expense Bill to Me?

* * * * *

On “collect” shipments, your mover must present its freight bill for transportation charges on the date of delivery, or, at its discretion, within 15 days, calculated from the date the shipment was delivered at your destination. This period excludes Saturdays, Sundays, and Federal holidays. (Bills for charges exceeding 110 percent of a non-binding estimate, and for additional services requested or found necessary after the shipment is in transit, will be presented no sooner than 30 days from the date of delivery.)

* * * * *

If I Forced My Mover To Relinquish a Collect-on-Delivery Shipment Before the Payment of ALL Charges, How Must My Mover Collect the Balance?

On “collect-on-delivery” shipments, your mover must present its freight bill for transportation charges within 15 days, calculated from the date the shipment was delivered at your destination. This period excludes Saturdays, Sundays, and Federal holidays. (Bills for charges exceeding 110 percent of a non-binding estimate, and charges for additional services requested or found necessary after the shipment is in transit, will be presented no sooner than 30 days after the date of delivery.)

What Actions May My Mover Take To Collect From Me the Charges Upon Its Freight Bill?

Your mover must present a freight bill within 15 days (excluding Saturdays, Sundays, and Federal holidays) of the date of delivery of a shipment at your destination. (Bills for charges exceeding 110 percent of a non-binding estimate, and for additional services requested or found necessary after the shipment is in transit, will be presented no sooner than 30 days after the date of delivery.)

The credit period must be 7 days (excluding Saturdays, Sundays, and Federal holidays).

Your mover must provide in its tariffs the following three things:

(1) A provision automatically extending the credit period to a total of 30 calendar days for you if you have not paid its freight bill within the 7-day period.

* * * * *

Issued on: March 30, 2004.
Warren E. Hoemann,
Deputy Administrator.

[FR Doc. 04-7553 Filed 4-1-04; 8:45 am]

BILLING CODE 4910-EX-P